DEPARTMENT OF HEALTH AND HUMAN SERVICES

Centers for Disease Control and Prevention

[30 Day-12-11EX]

Agency Forms Undergoing Paperwork Reduction Act Review

The Centers for Disease Control and Prevention (CDC) publishes a list of information collection requests under review by the Office of Management and Budget (OMB) in compliance with the Paperwork Reduction Act (44 U.S.C. chapter 35). To request a copy of these requests, call the CDC Reports Clearance Officer at (404) 639-5960 or send an email to omb@cdc.gov. Send written comments to CDC Desk Officer, Office of Management and Budget, Washington, DC or by fax to (202) 359-5806. Written comments should be received within 30 days of this notice.

Proposed Project

Evaluation of Enhanced Implementation of the “Learn the Signs. Act Early.” Campaign in 4 Target Sites,—New—National Center on Birth Defects and Developmental Disabilities (NCBDDD), Centers for Disease Control and Prevention (CDC).

Background and Brief Description

CDC's most recent data show that an average of one in 110 children has an autism spectrum disorder in 2006. Today, autism is recognized in many circles as an “epidemic” or “crisis” that is directly impacting the lives of many millions of Americans. All the communities participating in both the 2002 and 2006 studies observed an increase in identified ASD prevalence ranging from 27 percent to 95 percent, with an average increase of 57 percent. No single factor explains the changes in identified ASD prevalence over the time period studied. Although some of the increases are due to better detection, a true increase in risk cannot be ruled out.

Evidence has shown that early treatment can have a significant positive impact on the long-term outcome for children with an autism spectrum disorder. Early treatment, however, generally relies on the age at which a diagnosis can be made, thus pushing early identification research into a category of high public health priority (Pierce, et al, 2010).

To address this important health issue, the CDC has launched the “Learn the Signs. Act Early.” national campaign and developed partnerships with national autism and health care professional organizations to promote awareness of early childhood developmental milestones and increase early action on developmental concerns.

This request for data collection is for the evaluation of the “Learn the Signs. Act Early.” campaign implemented at a local level among four grantees. The proposed evaluation will assess the reach and awareness to determine if the proposed strategies and activities are effectively reaching the target populations. The evaluation will be accomplished by a pre-implementation survey and a post-implementation survey of parents of children ages 0-60 months in the target areas for each of the four grantees.

The surveys will capture information from the program's target audience to determine campaign reach and exposure among this group, as well as identify changes in knowledge, awareness, and behavior related to the campaign and monitoring early child development. The project aims to collect 250 completed parent surveys from each of the 4 sites prior to campaign implementation and after campaign implementation (for a total of 1,000 completed surveys). It is estimated that 1200 respondents will have to be screened in order to recruit 1000 total survey participants.

Participants will be recruited to participate in one of two surveys that will be conducted in the following four target areas:

• Washington: Yakima, Benton, Franklin, and Walla Walla counties

• Missouri: St. Louis City

• Utah: Salt Lake County

• Alaska: Anchorage, Palmer, Wasilla, Homer, Kenai

The information collected from the surveys is not intended to provide statistical data for publication. The purpose of this activity is solely to assess the impact of the “Learn the Signs. Act Early.” campaign in four target areas. The data collection will use a consistent format and comply with requirements under the Public Health Service Act, Executive Order 12862, and GPRA.

Without this information collection, CDC will be hampered in successfully carrying out its mission of providing high quality programs and services to populations served. Failure to collect this data would compromise efforts to reduce the impact of ASDs and other developmental disabilities on the U.S. population.

Data collection materials will be available in both English and Spanish. This request is being submitted to obtain OMB clearance for two years. There is no cost to the respondents other than their time to participate. The total annualized burden for this project is 454 hours.

Estimated Annualized Burden Hours
Form name | Number of respondents | Number of responses per respondent | Average burden per response (in hours) | Total burden (in hours)
Screener | 1200 | 1 | 3/60 | 60
Pre-Implementation Survey | 1000 | 1 | 10/60 | 167
Screener | 1200 | 1 | 3/60 | 60
Post-Implementation Survey | 1000 | 1 | 10/60 | 167
Total |  |  |  | 454

Dated: November 8, 2011.
Daniel L. Holcomb,
Reports Clearance Officer, Centers for Disease Control and Prevention.

[FR Doc. 2011-29417 Filed 11-14-11; 8:45 am]

BILLING CODE 4163-18-P